DEPARTMENT OF HEALTH AND HUMAN SERVICES

Centers for Disease Control and Prevention

[60Day-24-24EZ; Docket No. CDC-2024-0031]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Assessing Sexual and Gender Minority (SGM) Occupational Well-Being from The PRIDE Study. This project aims to describe the SGM workforce population, their health and well-being experiences, and their work-related health and well-being determinants and outcomes.

DATES: CDC must receive written comments on or before July 8, 2024.

ADDRESSES: You may submit comments, identified by Docket No. CDC-2024-0031 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Assessing Sexual and Gender Minority Occupational Well-Being from The PRIDE Study—New—National Institute for Occupational Safety and Health (NIOSH), Centers for Disease Control and Prevention (CDC).

Background and Brief Description

Persons who are lesbian, gay, bisexual, transgender, queer, intersex, or another sexual orientation/gender identity (LGBTQIA+), also known as sexual and gender minority (SGM) persons, comprise a notable and rapidly growing percentage of the U.S. working population. Yet they are often overlooked in terms of health research and policies offering health assurances and safety protections at work. Currently, there is no national dataset or data system that provides detailed health experiences and well-being information on SGM workers. The Population Research in Identity and Disparities for Equality (PRIDE) Study is a national SGM community health survey conducted by The University of California, San Francisco (UCSF) and Stanford University and the first national, longitudinal cohort study of comprehensive SGM physical, mental, and social health that studies how being LGBTQIA+ influences health. The proposed project will enable The PRIDE Study to collect, for the first time, information on the health and well-being experiences of SGM workers, and for NIOSH to use these findings to characterize the U.S. SGM workforce, their health experiences, and factors potentially associated with their work-related health outcomes. Primary data will be collected from The PRIDE Study's ongoing participant cohort, using a survey to collect information through The PRIDE Study's online digital survey platform. The survey will be a modified version of NIOSH's Worker Well-Being Questionnaire (Well-BQ) to include work and health experience information specific to SGM workers. Results will be used to establish descriptive baseline health information on U.S. SGM workers, describe factors that may be associated with SGM worker health and well-being outcomes, and improve the capabilities of The PRIDE Study, a population health assessment tool, to better assess the work-related health experiences of the SGM workforce.

CDC requests OMB approval for an estimated 1,015 annual burden hours. There are no costs to respondents other than their time to participate.

Estimated Annualized Burden Hours
Type of respondents | Form name | Number of respondents | Number of responses per respondent | Average burden per response (in hours) | Total burden (in hours)
PRIDE Study participants | Sexual and Gender Minority Occupational Well-Being Questionnaire | 3,044 | 1 | 20/60 | 1,015
Total |  |  |  |  | 1,015

Jeffrey M. Zirger,
Lead, Information Collection Review Office, Office of Public Health Ethics and Regulations, Office of Science, Centers for Disease Control and Prevention.

[FR Doc. 2024-09842 Filed 5-6-24; 8:45 am]

BILLING CODE 4163-18-P